DEPARTMENT OF EDUCATION

Office of Special Education and Rehabilitative Services; National Institute on Disability and Rehabilitation Research—Disability and Rehabilitation Research Projects and Centers Program—Rehabilitation Engineering Research Centers (RERCs)—Accessible Medical Instrumentation (CFDA No. 84.133E-6); and Workplace Accommodations (CFDA No. 84.133E-7)

ACTION: Notices inviting applications for new awards for fiscal year (FY) 2007; Correction.

SUMMARY: On February 14, 2007, we published in the Federal Register (72 FR 7325 and 7328) two notices inviting applications (NIAs) for new awards for FY 2007 for the RERC for Accessible Medical Instrumentation and the RERC for Workplace Accommodations competitions. Each of the NIAs contained an incorrect date for the deadline of transmittal of applications.

In the NIA for the RERC for Accessible Medical Instruction (CFDA No. 84.133E-6), on pages 7325 and 7326, first columns, “Deadline for Transmittal of Applications: April 30, 2007” is corrected to read “Deadline for Transmittal of Applications: April 16, 2007.”

In the NIA for the RERC for Workplace Accommodations (CFDA No. 84.133E-7), on pages 7328 and 7329, third columns, “Deadline for Transmittal of Applications: April 30, 2007” is corrected to read “Deadline for Transmittal of Applications: April 16, 2007.”

FOR FURTHER INFORMATION CONTACT: Donna Nangle, U.S. Department of Education, 400 Maryland Avenue, SW., room 6030, Potomac Center Plaza, Washington, DC 20202. Telephone: (202) 245-7462 or by e-mail: donna.nangle@ed.gov.

If you use a telecommunications device for the deaf (TDD), you may call the TDD number at (202) 245-7317 or the Federal Relay Service (FRS) at 1-800-877-8339.

Individuals with disabilities may obtain this document in an alternative format (e.g., Braille, large print, audiotape, or computer diskette) on request by contacting the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 22, 2007.
Andrew J. Pepin,
Executive Administrator for Special Education and Rehabilitative Services.

[FR Doc. E7-3439 Filed 2-27-07; 8:45 am]

BILLING CODE 4000-01-P